INTERNATIONAL TRADE COMMISSION

[Investigation No. 337-TA-1183]

Certain Foldable Reusable Drinking Straws and Components and Accessories Thereof; Institution of Investigation

AGENCY: U.S. International Trade Commission.

ACTION: Notice.

SUMMARY: Notice is hereby given that a complaint was filed with the U.S. International Trade Commission on October 9, 2019, under section 337 of the Tariff Act of 1930, as amended, on behalf of The Final Co. LLC of Santa Fe, New Mexico. An amended complaint was filed on October 29, 2019. The complaint, as amended, alleges violations of section 337 based upon the importation into the United States, the sale for importation, and the sale within the United States after importation of certain foldable reusable drinking straws and components and accessories thereof by reason of infringement of certain claims of U.S. Patent No. 10,123,641 (“the '641 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

For Further Information Contact: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2019).

Scope of Investigation: Having considered the complaint, the U.S. International Trade Commission, on November 5, 2019, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-12, 14-17, and 20 of the '641 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “individual foldable reusable drinking straws and components thereof, cases used to store the foldable reusable drinking straws, and tools used for cleaning the foldable reusable drinking straws”;

(3) For the purpose of the investigation so instituted, the following are hereby named as parties upon which this notice of investigation shall be served:

(a) The complainant is:

The Final Co. LLC, 1703½ Quapaw Street, Santa Fe, NM 87505.

(b) The respondents are the following entities alleged to be in violation of section 337, and are the parties upon which the complaint is to be served:

Huizhou Sinri Technology Company Limited, 3rd Floor, Plant A, Yiyuan Sci-Tech Industry Park, Cangkeng Section, Tianduan Village, Xikeng, Huihuan, Zhongkai High-Tech Zone, Huizhou, Guangdong, China 516006.

Hebei Serun Import and Export Trade Co., Ltd., Shenhou Shenqi Tingyuan, High And New Technology Industrial Development Zone, Luquan, Shijiazhuang, Hebei, China (Mainland), 050200.

Dongguan Stirling Metal Products Co., Ltd., 3-201, Xinhe Ind. Zone, Xiaobian, Chang'an Town, Dongguan, Guangdong, China 523853.

Ningbo Wwpartner Plastic Manufacture Co., Ltd. Apt. 501-48, No. 50, Lane 578, South Tiantong Road, Yinzhou District, Ningbo, Zhejiang, China 315199.

Shenzhen Yuanzhen Technology Co., Ltd. 805, Block B, Fuquan Building, Qingquan Road, Longhua District, Shenzhen, China 518000.

Jiangmen Boyan Houseware Co., Ltd. No. 18-1-107, Zhongxin South Road, Huicheng, Xinhui Dist., Jiangmen, Guangdong, China 529100.

Shanghai Rbin Industry And Trade Co., Ltd. Room D4003, Bldg. 1, No. 888, Huaxu Road, Qingpu Dist., Shanghai, China 201702.

Jiangmen Shengke Hardware Products Co., Ltd. Cunqian House, Wubian Land, Heping Group, Xinjian Village, Siqian Town, Xinhui District, Jiangmen, Guangdong, China 529000.

Funan Anze Trading Co., Ltd. No. 104-16, Jiaoyang Road, Lucheng Town, Funan County, Fuyang, Anhui, China 236300.

Hangzhou Keteng Trade Co., Ltd. C533, Floor 5, Bldg. 3-C, No. 8, Xiyuan 9th Road, Xihu Dist., Hangzhou, Zhejiang, China 310030.

Hunan Jiudi Shiye Import And Export Trading Co., Ltd. Room 1654, Building 4, Dameiyuan, No. 577, Yulan Road, Wangchengpo Street, Yuelu District, Changsha, Hunan, China (Mainland) 410205.

Shenzhen Yaya Gifts Co., Ltd. No. 2, Lane 3, East Of Henglingtang, Pingshan Street, Pingshan New Dist., Shenzhen, Guangdong, China 518118.

Ningbo Weixu International Trade Co., Ltd. A27, Floor 5, Nongxin Bldg., Ningbo, Zhejiang, China (Mainland) 315600.

Ningbo Beland Commodity Co., Ltd. 14-6, No. 51, Bldg. 12, Xintiandi East Zone, Yinzhou Dist., Ningbo, Zhejiang, China 315040.

Xiamen One X Piece Imp.&Exp. Co., Ltd. 601, Bldg. 73, Jimei Zhongxin Garden, Xiamen, Fujian, China 36100.

Hunan Champion Top Technology Co., Ltd. No. 600, Wanfu North Road, Yuhua area, Changsha city, Hunan province, China 410000.

Yiwu Lizhi Trading Firm Unit 3, Building 42, Xiawang New Village Third District, Jiangdong Street, Yiwu, Jinhua, Zhejiang, China 322000.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 6, 2019.
Lisa Barton,
Secretary to the Commission.

[FR Doc. 2019-24612 Filed 11-12-19; 8:45 am]

BILLING CODE 7020-02-P